DEPARTMENT OF HEALTH AND HUMAN SERVICES

Health Resources and Services Administration

Part D Comprehensive Services and Access to Research for Women, Infants, Children and Youth Grant Under the Ryan White HIV/AIDS Program

AGENCY: Health Resources and Services Administration (HRSA), HHS.

ACTION: Notice of Non-Competitive Part D Award Funds for the Mecklenburg County Health Department and Duke University.

SUMMARY: HRSA will be awarding non-competitive Part D funds to the Mecklenburg County Health Department in order to ensure continuity of critical HIV medical care and treatment services, and to avoid a disruption of HIV clinical care and support services to women, infants, children, and youth in the Charlotte, North Carolina and surrounding counties. HRSA will also be awarding non-competitive Part D Funds to Duke University in order to ensure continuity of critical HIV medical care and treatment services, and to avoid a disruption of HIV clinical care and support services to women, infants, children, and youth in the central North Carolina area.

SUPPLEMENTARY INFORMATION:

Grantee of record: Metrolina AIDS Project.

Intended recipients of the award: Mecklenburg County Health Department, Charlotte, North Carolina and Duke University, Durham, North Carolina.

Amount of the award: To each recipient, $239,136 (initial 6-month award) and $431,680 (anticipated 12- month award) to ensure ongoing HIV clinical and support services to the target population.

Authority: Section 2671 of the Public Health Service Act, 42 U.S.C. 300ff-51.

CFDA Number: 93.918.

Project period: February 1, 2010 to July 31, 2011. The period of support for this award is from February 1, 2010 to July 31, 2011.

Justification for the Exception to Competition

Funding for critical HIV medical care, treatment, and support services to women, infants, children, and youth in the Charlotte, North Carolina and central North Carolina areas, will be continued through non-competitive awards to the Mecklenburg County Health Department and Duke University, respectively, as each has the fiscal and administrative infrastructure to administer the Part D Grant. These are temporary replacement awards. The previous grant recipient serving this population notified HRSA that it was closing and could not continue providing Part D services after January 31, 2010. This recipient served two distinct service areas with its Part D Grant, and no other entity has the capacity to serve both areas. HRSA's HIV/AIDS Bureau identified the Mecklenburg County Health Department and Duke University as the best qualified Grantees for these awards. The Mecklenburg County Health Department is also the Part A Grant administrator that ensures accessibility to health care services for these clients. Duke University was the primary contractor for the central North Carolina area that ensured accessibility to health care services for these clients. The Mecklenburg County Health Department and Duke University can provide comprehensive services, including primary medical care and antiretroviral therapies; prevention education and medication adherence teaching; referrals for mental health, substance abuse and dental services; and on-site medical HIV case management services, as well as additional family-centered support services. The additional funding provided would enhance retaining the targeted population in care.

The Mecklenburg County Health Department and Duke University are to provide critical services, with the least amount of disruption to the service population while the service area is re-competed. The initial awards will provide funding for 6 months, based on satisfactory performance, continued need, and continued availability of funds. A second and final award for these services will be awarded for 12-months. This supplement will cover the time period from February 1, 2010 to July 31, 2011. This service area will be included in the upcoming competition for the Part D Comprehensive Services and Access to Research for Women, Infants, Children, and Youth for project periods starting August, 2011.

FOR FURTHER INFORMATION CONTACT: Kathleen Treat, by e-mail ktreat@hrsa.gov, or by phone, 301-443-7602.

Dated: April 22, 2010.
Mary K. Wakefield,
Administrator.

[FR Doc. 2010-9968 Filed 4-28-10; 8:45 am]

BILLING CODE 4165-15-P